DEPARTMENT OF TRANSPORTATION

Federal Motor Carrier Safety Administration

[Docket No. FMCSA-2012-0268]

Hours of Service of Drivers: Trailways Companies Exemption; FAST Act Extension of Expiration Date

AGENCY: Federal Motor Carrier Safety Administration (FMCSA), DOT.

ACTION: Notice; extension of exemption.

SUMMARY: FMCSA announces the extension of the 2015 exemption granted to Trailways Companies (Trailways) and other regular-route for-hire passenger carriers. The Agency extends the expiration date from June 4, 2015, to June 4, 2020, in response to the “Fixing America's Surface Transportation Act” (FAST Act). That Act extends the expiration date of hours-of-service (HOS) exemptions in effect on the date of enactment of the FAST Act to 5 years from the date of issuance of the exemptions. This exemption provides that drivers of passenger-carrying vehicles with regularly scheduled routes are exempted from changing their duty status from “driving” to “on-duty not driving” when making stops of less than 10 minutes for the limited purpose of picking up or dropping off passengers, baggage, or small express packages. The Agency previously determined that operations under this exemption would likely achieve a level of safety equivalent to or greater than the level of safety that would be obtained in the absence of the exemption.

DATES: This limited exemption is effective from June 4, 2015, through June 4, 2020.

FOR FURTHER INFORMATION CONTACT: Mr. Thomas Yager, Chief, FMCSA Driver and Carrier Operations Division; Office of Carrier, Driver and Vehicle Safety Standards; Telephone: 614-942-6477. Email: MCPSD@dot.gov.

SUPPLEMENTARY INFORMATION:

Legal Basis

FMCSA has authority under 49 U.S.C. 31136(e) and 31315 to grant exemptions from certain parts of the Federal Motor Carrier Safety Regulations. FMCSA must publish a notice of each exemption request in the Federal Register [49 CFR 381.315(a)].

Section 5206(b)(2)(A) of the “Fixing America's Surface Transportation Act,” (FAST Act), effective October 1, 2015, requires FMCSA to extend any exemption from any provision of the HOS regulations under 49 CFR part 395 that was in effect on the date of enactment of the Act for a period of 5 years from the date the exemption was granted. The exemption may be renewed. Because this action merely implements a statutory mandate that took effect on the date of enactment of the FAST Act, notice and comment are not required.

Trailways Exemption

Trailways, a regular-route passenger carrier, applied for a limited exemption on behalf of Adirondack Trailways, Pine Hill Trailways, New York Trailways and all other regular-route passenger carriers and their drivers, from the change of duty status requirements in 49 CFR 395.8(c). Trailways had requested that drivers with regularly scheduled routes be exempted from changing their duty status from “driving” to “on-duty not driving” when making stops of less than 10 minutes for the limited purpose of picking up or dropping off passengers, baggage, or small express packages.

FMCSA reviewed the application and the public comments and concluded that allowing these drivers to perform their daily duties without having to record short-term changes in duty status would promote safety at least as effectively as the logbook regulations in 49 CFR part 395.8(c). Trailways held a similar 2-year exemption from 2013 to 2015. A Notice of Final Determination granting the Trailways exemption was published on June 4, 2015 [80 FR 31961].

The substance of the exemption is not affected by this extension. The exemption covers only the driver's record of duty status regulations [49 CFR 395.8(c)]. The exemption is restricted to drivers employed by Trailways and other regular-route for-hire passenger carriers. Instead of complying with the provisions in 49 CFR 395.8(c), these drivers are exempted from changing their duty status from “driving” to “on-duty not driving” when making stops of less than 10 minutes.

The FMCSA does not believe the safety record of any driver operating under this exemption will deteriorate. However, should deterioration in safety occur, FMCSA will take all steps necessary to protect the public interest, including revocation of the exemption. The FMCSA has the authority to terminate the exemption at any time the Agency has the data/information to conclude that safety is being compromised.

Issued on: November 3, 2016.
T.F. Scott Darling, III,
Administrator.

[FR Doc. 2016-27269 Filed 11-10-16; 8:45 am]

BILLING CODE 4910-EX-P